DEPARTMENT OF THE INTERIOR

National Park Service

[NPS-WASO-NAGPRA-NPS0035485; PPWOCRADN0-PCU00RP14.R50000]

Notice of Inventory Completion: Rice University, Houston, TX

AGENCY: National Park Service, Interior.

ACTION: Notice.

SUMMARY: In accordance with the Native American Graves Protection and Repatriation Act (NAGPRA), Rice University has completed an inventory of human remains and associated funerary objects and has determined that there is a cultural affiliation between the human remains and associated funerary objects and Indian Tribes or Native Hawaiian organizations in this notice. The human remains and associated funerary objects were removed from Brazoria County, TX.

DATES: Repatriation of the human remains and associated funerary objects in this notice may occur on or after April 20, 2023.

ADDRESSES: Dr. Susan K. McIntosh, Department of Anthropology, MS-20, Rice University, P.O. Box 1892, Houston, TX 77251-1892, telephone (713) 348-3380, email skmci@rice.edu.

SUPPLEMENTARY INFORMATION: This notice is published as part of the National Park Service's administrative responsibilities under NAGPRA. The determinations in this notice are the sole responsibility of Rice University. The National Park Service is not responsible for the determinations in this notice. Additional information on the determinations in this notice, including the results of consultation, can be found in the inventory or related records held by Rice University.

Description

In 1971, human remains representing at minimum, five individuals were removed from the Shell Point site (41 BZ 2) in Brazoria County, TX, by Rice University (Rice) during a salvage project at the eroding shell midden on the margins of Chocolate Bayou. The human remains recovered by Rice included five individuals who had been interred together at the same time. Burial #1 contained the human remains of an adult male, Burial #2 contained the human remains of a child 5-6 years old, Burial #3 contained the human remains of an adult male. Burial #4 contained the human remains of an adult female, and Burial #5 contained the human remains of an adult male. No known individuals were identified. Eleven associated funerary objects were removed from the burial pit: five conch shell beads, one conch shell pendant, four bone awls, and one bone bead. Additionally, 137 pottery sherds were removed from various excavation units at the site, but could not be determined by the excavators to be contemporaneous with the burials. The 11 associated funerary objects are currently missing from the collection. Rice University continues to look for these 11 missing objects.

In 1973, an analysis of human remains from the site was published (Bulletin of the Texas Archaeological Society 44 (1973)). (This report included human remains removed by non-Rice personnel from three additional burials—#s 6, 7, and 8—sometime prior to the Rice excavations, which were not curated at Rice and whose location is unknown.) Based on the tall stature and ruggedness of the three males listed in this notice, which accords with 19th century descriptions of then-living Karankawa Indians, the 1973 report concluded that “there is little doubt that the Shell Point series can be identified as Karankawa.”

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical, archeological, linguistic, historical, and oral traditional.

Determinations

Pursuant to NAGPRA and its implementing regulations, and after consultation with the appropriate Indian Tribes and Native Hawaiian organizations, Rice University has determined that:

• The human remains described in this notice represent the physical remains of five individuals of Native American ancestry.

• The 11 objects described in this notice are reasonably believed to have been placed with or near individual human remains at the time of death or later as part of the death rite or ceremony.

• There is a relationship of shared group identity that can be reasonably traced between the human remains and associated funerary objects described in this notice and the Tonkawa Tribe of Indians of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 20, 2023. If competing requests for repatriation are received, Rice University must determine the most appropriate requestor prior to repatriation. Requests for joint repatriation of the human remains and associated funerary objects are considered a single request and not competing requests. Rice University is responsible for sending a copy of this notice to the Indian Tribe identified in this notice.

Authority: Native American Graves Protection and Repatriation Act, 25 U.S.C. 3003, and the implementing regulations, 43 CFR 10.9, 10.10, and 10.14.

Dated: March 15, 2023.
Melanie O'Brien,
Manager, National NAGPRA Program.

[FR Doc. 2023-05730 Filed 3-20-23; 8:45 am]

BILLING CODE 4312-52-P